DEPARTMENT OF THE INTERIOR

National Park Service

[NPS-WASO-NRNHL-0911-8438; 2280-665]

National Register of Historic Places; Notification of Pending Nominations and Related Actions

Nominations for the following properties being considered for listing or related actions in the National Register were received by the National Park Service before September 10, 2011. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by October 19, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

CONNECTICUT

Fairfield County

Cassidy House, 891 Ellsworth St., Bridgeport, 11000749

Long Ridge Village Historic District (Boundary Increase), 1-130 Mill Rd., 189-247 Old Long Ridge Rd., 1257-1306 Rock Rimmon Rd., Stamford, 11000750

Webb, David Jr. and Sarah, House, 1161 Ponus Ridge, New Canaan, 11000751

NEW YORK

Monroe County

First Baptist Church, 124 Main St., Brockport, 11000752

Rensselaer County

Gifford Farmstead, (Farmsteads of Pittstown, New York MPS) 276 Gifford Rd., Tomhannock, 11000753

Steuben County

Cottages at Central Point, 14681-14697 Keuka Village Rd., Wayne, 11000754

Westchester County

West Somers Methodist Episcopal Church and Cemetery, 199 Tomahawk St., Somers, 11000755

UTAH

Davis County

Farmington Main Street Historic District, Approx. Main St. from 200 S. to 600 N., along 600 North St. to Park Ln. and 100 North St. from Main St. to 100 W., Farmington, 11000756

Morgan County

Morgan Union Pacific Depot, 98 N. Commercial St., Morgan, 11000757

WISCONSIN

Brown County

Steckart and Falck Double Block, 112-118 N. Broadway, De Pere, 11000758

[FR Doc. 2011-25467 Filed 10-3-11; 8:45 am]

BILLING CODE 4312-51-P